POSTAL REGULATORY COMMISSION

[Docket No. PI2008-1; Order No. 83]

Administrative Practice and Procedure, Postal Service; Correction

AGENCY: Postal Regulatory Commission.

ACTION: Notice; correction.

SUMMARY: The Postal Regulatory Commission published a document in the Federal Register on June 25, 2008 seeking comments on a plan for service performance measurement and reporting systems for market dominant products. The document contained several errors the Commission wishes to correct.

FOR FURTHER INFORMATION CONTACT: Stephen L. Sharfman, General Counsel, 202-789-6820 and stephen.sharfman@prc.gov.

Correction

In SUPPLEMENTARY INFORMATION, page 36138, Table 2, correct the row beginning with “Standard Mail” to delete subscript 7 in column 6, and the row beginning with “Package Services” to delete subscript 8 in column 3, and in footnote 1, change “Table 1” to “Table 2” and delete the word “mail” to read:

Table 2.—Postal Service Measurement Approach at Full Rollout ¹ Measurement Approach by Mail Segment
| Single-piece: Letters | Single-piece: Flats | Single-piece: Parcels | Presort: Letters | Presort: Flats | Presort: Parcels
First-Class Mail | EXFC | EXFC | Start: Acceptance scan | Start: Documented Arrival Time at Postal facility | EXFC as Proxy ² | Start: Documented Arrival Time at Postal facility.
|  |  | Stop: Delivery Confirmation delivery scan | Stop: External reporting |  | Stop: Delivery Confirmation delivery scan.
Single-Piece First-Class Mail International | IMMS ³ | EXFC as proxy ⁴ | Single-Piece First-Class Mail parcels as proxy ⁵ | N/A | N/A | N/A.
Periodicals ⁶ | N/A | N/A | N/A | Start: Documented Arrival Time at Postal facility | Start: Documented Arrival Time at Postal facility | N/A.
|  |  |  | Stop: External reporting | Stop: External reporting | N/A.
Standard Mail | N/A | N/A | N/A | Start: Documented Arrival Time at Postal facility | Start: Documented Arrival Time at Postal facility | Start: Documented Arrival Time at Postal facility.
|  |  |  | Stop: External reporting | Stop: External reporting | Stop: Delivery Confirmation delivery scan.
Package Services | N/A | N/A | Start: Acceptance scan | N/A | Start: Documented Arrival Time at Postal facility | Start: Documented Arrival Time at Postal facility.
|  |  | Stop: Delivery Confirmation delivery scan |  | Stop: External reporting | Stop: Delivery Confirmation delivery scan.
¹ Special Services are not included in Table 2 as they have different methods to “start-the-clock” and “stop-the-clock” from the market-dominant products.
² The Postal Service will use the External First-Class Mail Measurement System (EXFC) measurement for single-piece flats as a proxy for Presort First-Class Mail flats due to the very small volume of Presort flats.
³ The International Mail Measurement System (IMMS) is an external measurement system for which an independent measurement contractor seeds mail into the mailstream.
⁴ The EXFC measurement for domestic single-piece First-Class Mail flats will serve as a proxy for single-piece First-Class Mail International flats due to the small volume in the latter category. After clearing customs, single-piece First-Class Mail International flats enter the domestic mailstream and are handled with domestic single-piece First-Class Mail flats.
⁵ The Postal Service will use the measurement for domestic single-piece First-Class Mail parcels as a proxy for single-piece First-Class Mail International parcels.
⁶ Two mailer-operated external systems, Red Tag and Time Inc.'s DelTrak, will be used for Periodicals measurement during FY 2009, as the Postal Service transitions to a long-term internal solution.

In SUPPLEMENTARY INFORMATION, on page 36140, Table 3, in the row captioned “Overall Mailstream” under the column captioned “Letters (percent)”, change the number “17” to read “17.2”.

Table 3.—First-Class Mail Volume
| Single-piece: Letters (percent) | Single-piece: Flats (percent) | Single-piece: Parcels (percent) | Presort: Letters (percent) | Presort: Flats (percent) | Presort: Parcels (percent) | Presort: Total (percent)
First-Class Mail | 38.0 | 3.3 | 0.4 | 57.1 | 1.0 | 0.2 | 100
Overall Mailstream | 17.2 | 1.5 | 0.2 | 25.8 | 0.4 | 0.1 | 45.2

In SUPPLEMENTARY INFORMATION, on page 36142, Table 4, change “South Carolina District” to read “Greater South Carolina District” and change all instances of “xx” to read “xx.x”.

Table 4.—Quarterly Performance for Single-Piece First-Class Mail; Sample Quarterly Report Format for Single-Piece First-Class Mail
District | Overnight (% On-time) | Two-day (% On-time) | Three-day/four-day/ five-day (% On-time)
Capital Metro Area | xx.x | xx.x | xx.x
Baltimore District | xx.x | xx.x | xx.x
Capital District | xx.x | xx.x | xx.x
Greater South Carolina District | xx.x | xx.x | xx.x
Greensboro District | xx.x | xx.x | xx.x
Mid-Carolinas District | xx.x | xx.x | xx.x
No. Virginia District | xx.x | xx.x | xx.x
Richmond District | xx.x | xx.x | xx.x

In SUPPLEMENTARY INFORMATION, on page 36142, Table 5, change “South Carolina District” to read “Greater South Carolina District” and change all instances of “xx” to read “xx.x”.

Table 5.—Quarterly Performance for Single-Piece First-Class Mail Service Variance; Sample Quarterly Report Format With Service Variance for Single-Piece First-Class Mail
District | Overnight: Within + 1-day (percent) | Overnight: Within + 2-days (percent) | Overnight: Within + 3-days (percent) | Two-day: Within + 1-day (percent) | Two-day: Within + 2-days (percent) | Two-day: Within + 3-days (percent) | Three-day/four-day/five-day: Within + 1-day (percent) | Three-day/four-day/five-day: Within + 2-days (percent) | Three-day/four-day/five-day: Within + 3-days (percent)
Capital Metro Area | xx.x | xx.x | xx.x | xx.x | xx.x | xx.x | xx.x | xx.x | xx.x
Baltimore District | xx.x | xx.x | xx.x | xx.x | xx.x | xx.x | xx.x | xx.x | xx.x
Capital District | xx.x | xx.x | xx.x | xx.x | xx.x | xx.x | xx.x | xx.x | xx.x
Greater South Carolina District | xx.x | xx.x | xx.x | xx.x | xx.x | xx.x | xx.x | xx.x | xx.x
Greensboro District | xx.x | xx.x | xx.x | xx.x | xx.x | xx.x | xx.x | xx.x | xx.x
Mid-Carolinas District | xx.x | xx.x | xx.x | xx.x | xx.x | xx.x | xx.x | xx.x | xx.x
No. Virginia District | xx.x | xx.x | xx.x | xx.x | xx.x | xx.x | xx.x | xx.x | xx.x
Richmond District | xx.x | xx.x | xx.x | xx.x | xx.x | xx.x | xx.x | xx.x | xx.x

In SUPPLEMENTARY INFORMATION, on page 36142 in the third column, add a paragraph to read, “The Annual Compliance Report format for First-Class Mail is as follows:”.

In SUPPLEMENTARY INFORMATION, on page 36142, Table 6, change all instances of “xx” to read “xx.x”.

Table 6.—Annual Compliance Report; Sample Annual Report Format for First-Class Mail
Mail Class | Target (percent) | Percent on-time
First-Class Mail:
Single-Piece Overnight | xx.x | xx.x
Single-Piece Two-Day | xx.x | xx.x
Single-Piece Three-Day/Four-Day | xx.x | xx.x
Presort Overnight | xx.x | xx.x
Presort Two-Day | xx.x | xx.x
Presort Three-Day/Four-Day | xx.x | xx.x

In SUPPLEMENTARY INFORMATION, on page 36144, Table 8, in the column captioned “Area” add a row for “Southwest Area” following the row “Western Area”.

Table 8.—Quarterly Performance for Single-Piece International Mail Service Variance; Sample Quarterly Report Format With the Service Variance for Single-Piece First-Class Mail International
Area | Inbound: Within + 1-day (percent) | Inbound: Within + 2-day (percent) | Inbound: Within + 3-day (percent) | Outbound: Within + 1-day (percent) | Outbound: Within + 2-day (percent) | Outbound: Within + 3-day (percent)
Northeast Area | xx.x | xx.x | xx.x | xx.x | xx.x | xx.x
New York Metro Area | xx.x | xx.x | xx.x | xx.x | xx.x | xx.x
Eastern Area | xx.x | xx.x | xx.x | xx.x | xx.x | xx.x
Capital Metro Area | xx.x | xx.x | xx.x | xx.x | xx.x | xx.x
Southeast Area | xx.x | xx.x | xx.x | xx.x | xx.x | xx.x
Great Lakes Area | xx.x | xx.x | xx.x | xx.x | xx.x | xx.x
Western Area | xx.x | xx.x | xx.x | xx.x | xx.x | xx.x
Southwest Area | xx.x | xx.x | xx.x | xx.x | xx.x | xx.x
Pacific Area | xx.x | xx.x | xx.x | xx.x | xx.x | xx.x
National | xx.x | xx.x | xx.x | xx.x | xx.x | xx.x

In SUPPLEMENTARY INFORMATION, on page 36146, Table 12, add a table footnote following the table title to read, “Destination Entry includes Destination Bulk Mail Center, Destination Area Distribution Center, Destination Sectional Center Facility, and Destination Delivery Unit.”

Table 12.—Quarterly Performance for Standard Mail Service Variance; Sample Quarterly Report Format for Standard Mail Service Variance ¹
District | Destination entry: Within + 1-day (percent) | Destination entry: Within + 2-days (percent) | Destination entry: Within + 3-days (percent) | End-to-end: Within + 1-day (percent) | End-to-end: Within + 2-days (percent) | End-to-end: Within + 3-days (percent)
Capital Metro Area | xx.x | xx.x | xx.x | xx.x | xx.x | xx.x
Baltimore District | xx.x | xx.x | xx.x | xx.x | xx.x | xx.x
Capital District | xx.x | xx.x | xx.x | xx.x | xx.x | xx.x
Greater South Carolina District | xx.x | xx.x | xx.x | xx.x | xx.x | xx.x
Greensboro District | xx.x | xx.x | xx.x | xx.x | xx.x | xx.x
Mid-Carolinas District | xx.x | xx.x | xx.x | xx.x | xx.x | xx.x
No. Virginia District | xx.x | xx.x | xx.x | xx.x | xx.x | xx.x
Richmond District | xx.x | xx.x | xx.x | xx.x | xx.x | xx.x
¹ Destination Entry includes Destination Bulk Mail Center, Destination Area Distribution Center, Destination Sectional Center Facility, and Destination Delivery Unit.

In SUPPLEMENTARY INFORMATION, on page 36148, Table 16, change “Letters, Flats, and Parcels” to read “Letters and Flats”.

Table 16.—Annual Compliance Report; Sample Annual Report Format for Periodicals
Mail Class | Target (percent) | Percent on-time
Periodicals |  |
Letters and Flats | xx.x | xx.x

In SUPPLEMENTARY INFORMATION, on page 36149, Table 19, add the heading “District” to the first column to read:

Table 19.—Quarterly Performance for Package Services Service Variance; Sample Quarterly Report Format With Service Variance for Package Services Parcels
District | Within + 1-day (percent) | Within + 2-days (percent) | Within + 3-days (percent)
Capital Metro Area | xx.x | xx.x | xx.x
Baltimore District | xx.x | xx.x | xx.x
Capital District | xx.x | xx.x | xx.x
Greater South Carolina District | xx.x | xx.x | xx.x
Greensboro District | xx.x | xx.x | xx.x
Mid-Carolinas District | xx.x | xx.x | xx.x
No. Virginia District | xx.x | xx.x | xx.x
Richmond District | xx.x | xx.x | xx.x

In SUPPLEMENTARY INFORMATION, on page 36156, Table 25, delete superscript 1 from the table title.

Table 25.—Domestic Destination Entry Mail
Mail class | End-to-end flow range (days) ¹: DDU (days) | End-to-end flow range (days) ¹: SCF (days) | End-to-end flow range (days) ¹: ADC (days) | End-to-end flow range (days) ¹: BMC (days)
Periodicals | 1 | 1 | 1-2 | ²1-2
Standard Mail | 2 | 3 |  | 5
Package Services | 1 | 2 |  | 3
¹ See 72 FR 72216 (December 19, 2007) for Alaska, Hawaii, Puerto Rico, Guam, and U.S. Virgin Islands.
² Only applies to Periodicals receiving the DBMC Container rate.

By the Commission.
Steven W. Williams,
Secretary.

[FR Doc. E8-15785 Filed 7-10-08; 8:45 am]

BILLING CODE 7710-FW-P